DEPARTMENT OF AGRICULTURE

Submission for OMB Review; Comment Request

January 29, 2007.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Regulation Governing Inspection, Certification, and Standards for Fresh Fruits, Vegetables and other Products.

OMB Control Number: 0581-0125.

Summary of Collection: The Agricultural Marketing Act of 1946 gives authorization to USDA to inspect, certify and identify the class, quantity, quality and condition of agricultural produces when shipped or received in interstate commerce and to enter into cooperative agreements with cooperating Federal-State inspection Agencies that provide for this inspection work. The Fresh Products Branch provides a nationwide inspection and grading service for fresh fruits, vegetables, and other products to shippers, importers, processors, sellers, buyers and other financially interested parties on a “user-fee” basis. The program is voluntary and services are made available only upon request or when specified by some special program or contact.

Need and Use of the Information: Various forms are used to collect information. Such information includes: the name and location of the person or company requesting the inspection, the type and location of the product to be inspected, the type of inspection being requested and any information that will identify the product. The information collected is needed to carry out the inspection and grading services.

Description of Respondents: Business or other for profit.

Number of Respondents: 55,280.

Frequency of Responses: Reporting: On occasion.

Total Burden Hours: 8,772.

Charlene Parker,
Departmental Information Collection Clearance Officer.

[FR Doc. E7-1675 Filed 2-1-07; 8:45 am]

BILLING CODE 3410-02-P